DEPARTMENT OF HOMELAND SECURITY

U.S. Customs and Border Protection

[Docket No. USCBP-2013-0004]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on March 6, 2013, in Washington, DC. The meeting will be open to the public.

DATES: COAC will meet on Wednesday, March 6, 2013, from 1:00 p.m. to 5:00 p.m. EST. Please note that the meeting may close early if the committee has completed its business.

Registration: If you plan on attending, please register either online at https://apps.cbp.gov/te_registration/index.asp?w=113 or by email to tradeevents@dhs.gov, or by fax to 202-325-4290 by close-of-business on March 4, 2013.

If you have completed an online on-site registration and wish to cancel your registration, you may do so at https://apps.cbp.gov/te_registration/cancel.asp?w=113. Please feel free to share this information with interested members of your organizations or associations.

ADDRESSES: The meeting will be held at Ronald Reagan Building in the Horizon Ballroom, 1300 Pennsylvania Avenue NW., Washington, DC 20229. All visitors to the Ronald Reagan Building must show a state-issued ID or Passport to proceed through the security checkpoint for admittance to the building.

For information on facilities or services for individuals with disabilities or to request special assistance at the meeting, contact Ms. Wanda Tate, Office of Trade Relations, U.S. Customs and Border Protection at 202-344-1661 as soon as possible.

To facilitate public participation, we are inviting public comment on the issues to be considered by the committee as listed in the “Agenda” section below.

Comments must be submitted in writing no later than February 25, 2013, and must be identified by USCBP-2013-0004 and may be submitted by one of the following methods:

• Federal eRulemaking Portal: http://www.regulations.gov. Follow the instructions for submitting comments.

• Email: Tradeevents@dhs.gov. Include the docket number in the subject line of the message.

• Fax: 202-325-4290.

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket to read background documents or comments received by the COAC, go to http://www.regulations.gov.

There will be two public comment periods held during the meeting on March 6, 2013. Speakers are requested to limit their comments to two (2) minutes or less to facilitate greater participation. Contact the individual listed below to register as a speaker. Please note that the public comment period for speakers may end before the time indicated on the schedule that is posted on the CBP Web page at the time of the meeting.

FOR FURTHER INFORMATION CONTACT: Ms. Wanda Tate, Office of Trade Relations, U.S. Customs and Border Protection, 1300 Pennsylvania Avenue NW., Room 3.5A, Washington, DC 20229; telephone 202-344-1440; facsimile 202-325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS or the Department of the Treasury. This meeting starts the 13th Term of COAC and is the first meeting for some newly-appointed members.

Agenda

The COAC will hear from the following subcommittees on the topics listed below and then will review, deliberate, provide observations and formulate recommendations on how to proceed on those topics:

1. Discuss Statement of Work and Next Steps for the Trade Modernization Subcommittee which will address Centers of Excellence and Expertise (CEEs), the Automated Commercial Environment (ACE), Role of the Broker issues throughout the 13th Term.

2. Discuss Next steps regarding the One U.S. Government at the Border Subcommittee since the approval of the Master Principles Document on January 15, 2012.

3. Discuss Statement of Work and Next Steps for the Trade Enforcement and Revenue Collection Subcommittee which will address Revenue, Intellectual Property Rights and Antidumping/Countervailing Duties (AD/CVD) issues throughout the 13th Term.

4. Discuss the Statement of Work and Next Steps regarding the Trusted Trader subcommittee which will address Customs-Trade Partnership Against Terrorism (C-TPAT), Importer Self-Assessment (ISA) and Authorized Economic Operator (AEO) issues throughout the 13th Term.

5. Discuss the Statement of Work and Next Steps regarding the Global Supply Chain Subcommittee which will address Air Cargo Security and Land Border issues throughout the 13th Term.

6. Discuss the Statement of Work and Next Steps regarding the Exports Subcommittee.

Dated: February 13, 2013.
Maria Luisa O'Connell,
Senior Advisor for Trade, Office of Trade Relations.

[FR Doc. 2013-03760 Filed 2-15-13; 8:45 am]

BILLING CODE 9111-14-P